DEPARTMENT OF TRANSPORTATION

Federal Aviation Administration

Agency Information Collection Activities: Requests for Comments; Clearance of Renewed Approval of Information Collection: Flightcrew Member Duty and Rest Requirements

AGENCY: Federal Aviation Administration (FAA), DOT.

ACTION: Notice and request for comments.

SUMMARY: In accordance with the Paperwork Reduction Act of 1995, FAA invites public comments about our intention to request the Office of Management and Budget (OMB) approval to renew an information collection. Reporting and recordkeeping are required any time a certificated air carrier has exceeded a maximum daily flight time limit or a maximum daily Flight Duty Period (FDP) limit. It is also required for the voluntary development of a Fatigue Risk Management System (FRMS), and for fatigue training.

DATES: Written comments should be submitted by February 20, 2015.

ADDRESSES: Send comments to the FAA at the following address: Ms. Kathy DePaepe, Room 126B, Federal Aviation Administration, ASP-110, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Kathy DePaepe at (405) 954-9362, or by email at: Kathy.DePaepe@faa.gov.

SUPPLEMENTARY INFORMATION: OMB Control Number: 2120-0751.

Title: Flightcrew Member Duty and Rest Requirements.

Form Numbers: There are no FAA forms associated with this collection.

Type of Review: Renewal of an information collection.

Background: The FAA collects reports from air carriers certificated under 14 CFR part 121 as prescribed in 14 CFR part 117, 117.11 and 117.19 of the Flightcrew Member Duty and Rest Requirements. The purpose for the reports is to notify the FAA that the certificate holder has extended a flight time and/or FDP limitation. Additionally, if air carriers choose to develop a Fatigue Risk Management System (FRMS) they are required to collect data specific to the need of the operation for which they will seek an FRMS authorization. It will result in an annual recordkeeping and reporting burden if some of industry carriers eventually adopt the system so that they need to report the related activities to the FAA. Each air carrier is required to develop specific elements and incorporate these elements into their training program. Once the elements have been incorporated, the air carrier must submit the revised training program for approval.

Respondents: 67 certificated air carriers.

Frequency: Information is collected on occasion.

Estimated Average Burden per Response: 20 hours.

Estimated Total Annual Burden: 3,178 hours.

Issued in Washington, DC, on December 17, 2014.
Albert R. Spence,
FAA Assistant Information Collection Clearance Officer, IT Enterprises Business Services Division, ASP-110.

[FR Doc. 2014-29897 Filed 12-19-14; 8:45 am]

BILLING CODE 4910-13-P